ENVIRONMENTAL PROTECTION AGENCY

[EPA-HQ-OAR-2022-0449; FRL 10095-02-OAR]

Proposed Information Collection Request; Comment Request; GreenChill Advanced Refrigeration Partnership (Revision)

AGENCY: Environmental Protection Agency (EPA).

ACTION: Notice.

SUMMARY: The U.S. Environmental Protection Agency (EPA) is planning to submit an information collection request (ICR), “GreenChill Advanced Refrigeration Partnership (Revision)” (EPA ICR No. 2349.03, OMB Control No. 2060-0702) to the Office of Management and Budget (OMB) for review and approval in accordance with the Paperwork Reduction Act. Before doing so, EPA is soliciting public comments on specific aspects of the proposed information collection as described below. This is a proposed revision of the information collection request, which is currently approved through July 31, 2027. This notice allows for 60 days for public comments.

DATES: Comments must be submitted on or before December 16, 2024.

ADDRESSES: Submit your comments, referencing Docket ID No. EPA-HQ-QAR-2022-0449, to EPA online using www.regulations.gov (our preferred method), by email to: a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Annie Kee, Stratospheric Protection Division—Office of Air and Radiation, (3204A), Environmental Protection Agency, 1200 Pennsylvania Ave. NW, Washington, DC 20460; telephone number: (202) 564-2056; email address: kee.annie@epa.gov.

SUPPLEMENTARY INFORMATION: This is a proposed revision of the ICR, which is currently approved through July 31, 2027. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the Paperwork Reduction Act (PRA), EPA is soliciting comments and information to enable it to: (i) evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology. EPA will consider the comments received and amend the ICR as appropriate. The final ICR package will then be submitted to OMB for review and approval. At that time, EPA will issue another Federal Register notice to announce the submission of the ICR to OMB and the opportunity to submit additional comments to OMB.

Abstract: GreenChill is a voluntary partnership program sponsored by EPA that encourages food retailers and manufacturers to adopt cost effective technologies and practices that reduce refrigerant emissions and improve operational efficiency. The GreenChill Program works with the food retail industry to lower barriers inhibiting the implementation of technologies and practices that reduce refrigerant emissions. The Program effectively promotes the adoption of emission reduction practices and technologies by engaging GreenChill Partners to set an annual refrigerant emission reduction goal and develop a refrigerant management plan reflecting the company's implementation objectives. Implementation of the Partners' refrigeration management plan to reduce refrigerant emissions enhances the protection of the environment and may save Partners money and improve operational efficiency. The GreenChill Program offers the opportunity for any individual store to earn GreenChill Certification when it demonstrates that the amount of refrigerant used is below a specified limit, based on the store's MBTU/hour cooling load, that the refrigerant emitted from the store in the prior 12 months is below a specified level, and that in certain cases the store employs additional advanced technology, training, and other best practices. Information submitted for the certification of individual stores is compared to set criteria. The certification of a store provides the opportunity for broad recognition within the food retail industry and with the store's customers.

Form Numbers:

• GreenChill Advanced Refrigeration Partnership Agreement for Chemical Manufacturers—EPA Form No.: 5900-214; OMB Control No.: 2060-0702

• GreenChill Advanced Refrigeration Partnership Agreement for Supermarket Partners—EPA Form No.: 5900-214; OMB Control No.: 2060-0702

• GreenChill Advanced Refrigeration Partnership Agreement for Refrigeration Systems Manufacturers—EPA Form No.: 5900-214; OMB Control No.: 2060-0702

• GreenChill Installed Refrigerant and Emissions Corporate Report for Food Retail -EPA Form No.: 5900-213; OMB Control No.: 2060-0702

• Refrigeration System Manufacturers Corporate Reporting Form—EPA Form No.: 5900-591; OMB Control No.: 2060-0702

• Corporate Refrigerant Management Plan Template for GreenChill Partners—EPA Form No.: 5900-592; OMB Control No.: 2060-0702

• GreenChill Store Certification Application Workbook—EPA Form No.: 5900-590; OMB Control No.: 2060-0702

Respondents/affected entities: Entities potentially affected by the information requirements covered under this ICR are listed under the North American Industry Classification System (NAICS) code for 445110 Supermarkets and Other Grocery Retailers (except Convenience Retailers).

Respondent's obligation to respond: Voluntary.

Estimated number of respondents: 809 (per year).

Frequency of response: Annual, and when desired.

Total estimated burden: 6,213 hours (per year) (burden is defined at 5 CFR 1320.03(b)).

Total estimated cost: $503,131 (per year), includes $0 annualized capital or operation and maintenance costs.

Changes in estimates: There is an increase of 350 hours in the total estimated respondent burden compared with the ICR currently approved by OMB. This increase is due to the updated Store Certification Program criteria and additional information and documentation required to be submitted.

Cynthia A. Newberg,
Director, Stratospheric Protection Division.

[FR Doc. 2024-23835 Filed 10-15-24; 8:45 am]

BILLING CODE 6560-50-P